DEPARTMENT OF JUSTICE

Antitrust Division

Notice Pursuant to the National Cooperative Research and Production Act of 1993—Cooperative Research Group on Ros-Industrial Consortium-Americas

Notice is hereby given that, on April 30, 2014, pursuant to Section 6(a) of the National Cooperative Research and Production Act of 1993, 15 U.S.C. 4301 et seq. (“the Act”), Southwest Research Institute—Cooperative Research Group on ROS-Industrial Consortium-Americas (“RIC-Americas”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: ABB-US Corporation Research, Windsor, CT; BMW AG, Munich, Germany; The Boeing Company, Seal Beach, CA; Cessna Aircraft Company, a Textron Company, Wichita, KS; Deere & Company, Moline, IL; EWI, Columbus, OH; Ford Motor Company, Livonia, MI; HDT Robotics, Inc., Fredericksburg, VA; IDEXX Laboratories, Westbrook, ME; National Institute of Standards and Technology, Gaithersburg, MD; National Research Council Canada, Montreal, Quebec, CANADA; OmnicO AGV, Inc., Sterling Heights, MI; Shanghai Shou-Elin Robot Technology Co., Ltd., Shanghai, PEOPLE'S REPUBLIC OF CHINA; Spirit Aero Systems, Inc., Wichita, KS; University of Texas at Arlington, Arlington, TX; The Department of Mechanical Engineering, UT Austin, Austin, TX; Willow Garage, Inc., Menlo Park, CA; and Yaskawa America, Inc., Motoman Robotics Division, Miamisburg, OH.

The general area of RIC-America's planned activity is to develop an application roadmap for ROS-Industrial, set near-term technical goals, and participate in member-initiated Focused Technical Projects (FTP), further supporting the developer community through training, road mapping, events, and technical support. The Robot Operating System (ROS) is an open-source software project that provides a common framework for robotic applications. ROS is being used extensively by the research community for service robotics; its technology can now be applied to industrial/manufacturing robotics through ROS-Industrial (ROS-I). ROS-I is a repository of ROS drivers and algorithms for industrial robots, sensors, and automation hardware. It enables new applications like unstructured manipulation including advanced perception for identifying robot work pieces (reducing the need for costly hard tooling); dynamic path planning that adapts to the environment in real time and creates collision-free trajectories, mobile manipulation, which enables larger workspaces and more flexible operations. RIC-Americas will focus on the needs of industrial robot users and will accelerate the further development of ROS-Industrial.

Patricia A. Brink,
Director of Civil Enforcement Antitrust Division.

[FR Doc. 2014-13339 Filed 6-6-14; 8:45 am]

BILLING CODE